ENVIRONMENTAL PROTECTION AGENCY

[EPA-HQ-OECA-2006-0557; FRL-8245-6]

Agency Information Collection Activities; Submission to OMB for Review and Approval; Comment Request; Tips and Complaints Regarding Environmental Violations (Renewal); EPA ICR No. 2219.02, OMB Control No. 2020-0032

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing, approved collection. The ICR, which is abstracted below, describes the nature of the information collection and its estimated burden and cost.

DATES: Additional comments may be submitted on or before December 22, 2006.

ADDRESSES: Submit your comments, referencing Docket ID No. EPA-HQ-OECA-2006-0557, to (1) EPA online using http://www.regulations.gov (our preferred method), or by mail to: The Enforcement and Compliance Docket and Information Center, Environmental Protection Agency, Mailcode: 2201T, 1301 Constitution Ave., NW., Washington, DC 20460, and (2) OMB by mail to: Office of Information and Regulatory Affairs, Office of Management and Budget (OMB), Attention: Desk Officer for EPA, 725 17th Street, NW., Washington, DC 20503.

FOR FURTHER INFORMATION CONTACT: Michael Le Desma; Legal Counsel & Resource Management Division; Office of Criminal Enforcement, Forensics, and Training, Environmental Protection Agency, Building 25, Box 25227, Denver Federal Center, Denver, CO 80025; telephone number: (303) 462-9453; fax number: (303) 462-9075; e-mail address: ledesma.michael@epa.gov.

SUPPLEMENTARY INFORMATION: EPA has submitted the following ICR to OMB for review and approval according to the procedures prescribed in 5 CFR 1320.12. On Thursday, August 31, 2006 (71 FR 51810), EPA sought comments on this ICR pursuant to 5 CFR 1320.8(d). EPA received one comment during the comment period, which is addressed in the ICR. Any additional comments on this ICR should be submitted to EPA and OMB within 30 days of this notice.

EPA has established a public docket for this ICR under Docket ID No. EPA-HQ-OECA-2006-0557, which is available for online viewing at http://www.regulations.gov, or in person viewing at the Enforcement and Compliance Docket and Information Center in the EPA Docket Center (EPA/DC), EPA West, Room 3334, 1301 Constitution Ave., NW, Washington, DC. The EPA/DC Public Reading Room is open from 8 a.m. to 4:30 p.m., Monday through Friday, excluding legal holidays. The telephone number for the Reading Room is 202-566-1744, and the telephone number for the Enforcement and Compliance Docket and Information Center is 202-564-1927.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to http://www.regulations.gov.

Title: Tips and Complaints Regarding Environmental Violations (Renewal).

ICR numbers: EPA ICR No. 2219.02, OMB Control No. 2020-0032.

ICR Status: This ICR is scheduled to expire on November 30, 2006. Under OMB regulations, the Agency may continue to conduct or sponsor the collection of information while this submission is pending at OMB. An Agency may not conduct or sponsor, and a person is not required to respond to, a collection of information, unless it displays a currently valid OMB control number. The OMB control numbers for EPA's regulations in Title 40 of the CFR, after appearing in the Federal Register when approved, are listed in 40 CFR Part 9, are displayed either by publication in the Federal Register or by other appropriate means, such as on the related collection instrument or form, if applicable. The display of OMB control numbers in certain EPA regulations is consolidated in 40 CFR Part 9.

Abstract: The EPA tips and complaints web form is intended to provide an easy and convenient means by which members of the public can supply information to EPA regarding suspected violations of environmental law. The decision to provide a tip or complaint is entirely voluntary and use of the web form when supplying a tip or complaint is also entirely voluntary. Tippers need not supply contact information or other personal identifiers. Those who do supply such information, however, should know that this information may be shared by EPA with appropriate administrative, law enforcement, and judicial entities engaged in investigating or adjudicating the tip or complaint.

Burden Statement: The annual public reporting and recordkeeping burden for this collection of information is estimated to average one-half hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Respondents are expected to be members of the general public as well as employees of any company subject to federal environmental regulation. There is no specific industry or group of industries about which EPA expects tips or complaints.

Estimated Number of Respondents: 3,600.

Frequency of Response: One time, on occasion.

Estimated Total Annual Hour Burden: 1,800 hours.

Estimated Total Annual Cost: EPA does not anticipate any capital or start-up costs associated with completion of this form. EPA also does not anticipate that, in the usual case, burden hours associated with the tips and complaint form will translate into actual labor costs; we expect relatively few tips or complaints to be submitted as part of an employee's official duties. For this reason, we believe that the relevant “labor costs” associated with the form are best calculated as the wage opportunity cost to tippers of the form's estimated burden hours. The wage opportunity cost of the burden hours associated with this form can be estimated by multiplying the total number of burden hours by the average national hourly wage reported by the Bureau of Labor Statistics (BLS). BLS reports the average hourly wage in December 2005 to have been $18.59 per hour; accordingly, the total wage opportunity cost associated with the tips and complaints form would be approximately $33,462 per annum.

Changes in the Estimates: There is no change in the hours in the total estimated respondent burden compared with that identified in the ICR currently approved by OMB.

Dated: November 15, 2006.
Oscar Morales, Director,
Collection Strategies Division.

[FR Doc. E6-19753 Filed 11-21-06; 8:45 am]

BILLING CODE 6560-50-P